DEPARTMENT OF THE TREASURY

Community Development Financial Institutions Fund

Community Development Advisory Board; Notice of Open Meeting

ACTION: Notice of open meeting.

SUMMARY: This notice announces an open meeting of the Community Development Advisory Board (the Advisory Board), which provides advice to the Director of the Community Development Financial Institutions Fund (CDFI Fund). This meeting will be conducted virtually. A link to the livestream of the meeting will be posted at the top of www.cdfifund.gov/cdab the morning of the meeting.

DATES: The meeting will be held from 3:30 p.m. to 5:00 p.m. Eastern Time on Tuesday, November 30, 2021.

Submission of Written Statements: Participation in the discussions at the meeting will be limited to Advisory Board members, Department of the Treasury staff, and certain invited guests. Anyone who would like to have the Advisory Board consider a written statement must submit it by 5:00 p.m. Eastern Time on Monday, November 22, 2021. Send electronic statements to AdvisoryBoard@cdfi.treas.gov.

In general, the CDFI Fund will make all statements available in their original format, including any business or personal information provided such as names, addresses, email addresses, or telephone numbers, for virtual public inspection and copying. The CDFI Fund is open on official business days between the hours of 9:00 a.m. and 5:00 p.m. Eastern Time. You can make arrangements to virtually inspect statements by emailing AdvisoryBoard@cdfi.treas.gov. All statements received, including attachments and other supporting materials, are part of the public record and subject to public disclosure. You should only submit information that you wish to make publicly available.

FOR FURTHER INFORMATION CONTACT: Contact Bill Luecht, Senior Advisor, Office of Legislative and External Affairs, CDFI Fund; (202) 653-0322 (this is not a toll free number); or AdvisoryBoard@cdfi.treas.gov. Other information regarding the CDFI Fund and its programs may be obtained through the CDFI Fund's website at www.cdfifund.gov.

SUPPLEMENTARY INFORMATION: Section 104(d) of the Riegle Community Development and Regulatory Improvement Act of 1994 (Pub. L. 103-325), which created the CDFI Fund, established the Advisory Board. The charter for the Advisory Board has been filed in accordance with the Federal Advisory Committee Act, as amended (5 U.S.C. App.), and with the approval of the Secretary of the Treasury.

The function of the Advisory Board is to advise the Director of the CDFI Fund (who has been delegated the authority to administer the CDFI Fund) on the policies regarding the activities of the CDFI Fund. The Advisory Board does not advise the CDFI Fund on approving or declining any particular application for monetary or non-monetary awards.

In accordance with section 10(a) of the Federal Advisory Committee Act, 5 U.S.C. App. 2 and the regulations thereunder, Bill Luecht, Designated Federal Officer of the Advisory Board, has ordered publication of this notice that the Advisory Board will convene an open meeting, which will be conducted virtually, from 3:30 p.m. to 5:00 p.m. Eastern Time on Tuesday, November 30, 2021. Members of the public who wish to view the meeting can access the link to the livestream of the meeting at the top of www.cdfifund.gov/cdab.

The Advisory Board meeting will include remarks by Treasury officials, the swearing-in of new members, a report from the CDFI Fund Director on the activities of the CDFI Fund since the last Advisory Board meeting, and a discussion of future priorities.

Authority: 12 U.S.C. 4703.

Jodie L. Harris,
Director, Community Development Financial Institutions Fund.

[FR Doc. 2021-24537 Filed 11-9-21; 8:45 am]

BILLING CODE 4810-70-P